ENVIRONMENTAL PROTECTION AGENCY

[EPA-HQ-OAR-2004-0077; FRL-11115-01-OMS]

Agency Information Collection Activities; Submission to the Office of Management and Budget for Review and Approval; Comment Request; Significant New Alternatives Policy (SNAP) Program (Renewal)

AGENCY: Environmental Protection Agency (EPA).

ACTION: Notice.

SUMMARY: The Environmental Protection Agency (EPA) has submitted an information collection request (ICR), Significant New Alternatives Policy (SNAP) Program (EPA ICR Number 1596.11, OMB Control Number 2060-0226) to the Office of Management and Budget (OMB) for review and approval in accordance with the Paperwork Reduction Act. This is a proposed extension of the ICR, which is currently approved through August 31, 2023. Public comments were previously requested via the Federal Register on January 24, 2023, during a 60-day comment period. This notice allows for an additional 30 days for public comments.

DATES: Comments may be submitted on or before July 31, 2023.

ADDRESSES: Submit your comments, referencing Docket ID No. EPA-HQ-OAR-2004-0077, to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Christina Thompson, Stratospheric Protection Division, Office of Atmospheric Protection, (Mail Code 6205A), Environmental Protection Agency, 1200 Pennsylvania Ave. NW, Washington, DC 20460; telephone number: (202) 564-0983; email address: thompson.christina@epa.gov.

SUPPLEMENTARY INFORMATION: This is a proposed extension of the ICR, which is currently approved through August 31, 2023. An agency may not conduct or sponsor and a person is not required to respond to a collection of information unless it displays a currently valid OMB control number. Public comments were previously requested via the Federal Register on January 24, 2023 during a 60-day comment period (88 FR 4177). This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This information collection is necessary to implement the requirements of the Significant New Alternatives Policy (SNAP) program for evaluating and regulating substitutes for ozone-depleting substances (ODS) being phased out under the stratospheric ozone protection provisions of the Clean Air Act (CAA) and globally under the Montreal Protocol on Substances that Deplete the Ozone Layer. Under CAA section 612, EPA is authorized to identify and restrict the use of substitutes for class I and class II ODS (listed in 40 CFR part 82, subpart A, appendices A and B) where EPA determines other alternatives are available or potentially available that reduce overall risk to human health and the environment. Any producer of a new substitute must submit a notice of intent to introduce a substitute into interstate commerce 90 days prior to such introduction. The producer must also provide EPA with information covering a wide range of health and environmental factors. The EPA SNAP program then reviews proposed substitutes based on established risk-assessment criteria and procedures set forth in associated regulations. Results are published in updated lists of acceptable and unacceptable substitutes sorted by end-use categories.

Responses to the collection of information are mandatory under section 612 for anyone who sells or, in certain cases, uses substitutes for an ODS after April 18, 1994. Measures to protect confidentiality of information collected under the SNAP program are based on EPA's confidentiality regulations (40 CFR 2.201 et seq., or subpart B). Submitters may designate all or portions of their forms or petitions as confidential. EPA requires the submitters to substantiate their claim of confidentiality. Under CAA section 114(c), emissions information may not be claimed as confidential.

Any substitute which is a new chemical must also be submitted to the Agency under the New Chemicals (Premanufacture Notice) program under the Toxic Substances Control Act (TSCA). Furthermore, alternatives that will be used as sterilants must be filed jointly with EPA's Office of Pesticide Programs and with SNAP.

Form Numbers: 1264-14; 1265-14.

Respondents/affected entities: Manufacturers, importers, formulators, and processors of substitutes for ODS.

Respondent's obligation to respond: Mandatory (40 CFR 82.176).

Estimated number of respondents: 154 (per year).

Frequency of response: Annual.

Total estimated burden: 4,855 hours (per year). Burden is defined at 5 CFR 1320.03(b).

Total estimated cost: $444,249, which includes $22,912 annualized capital or operation & maintenance costs.

Changes in the Estimates: The number of SNAP submissions each year is expected to remain the same from the previous ICR, at an average of 15 per year during the next 3 years. In 2020 the Agency received 20 new SNAP submissions, and in 2021 the Agency received 13 submissions. In the first 10 months of 2022, the Agency received 6 submissions, although multiple submissions applied for more than 5 end-uses. Many of the recent SNAP submissions, and those anticipated over the next three years, are for chemicals previously found acceptable for other SNAP applications or for blends of alternatives already found acceptable. The burden of developing supporting information for the majority of these submissions is expected to decrease because it is easier to find and review information for substitutes that have been reviewed previously.

There is an estimated 20% reduction in the number of respondents responsible for recordkeeping for substitutes acceptable subject to use conditions and narrowed use limits. This reduction is expected because the increased availability of alternatives decreases the need for industry to use alternatives previously listed as acceptable subject to narrowed use limits.

Courtney Kerwin,
Director, Regulatory Support Division.

[FR Doc. 2023-13958 Filed 6-29-23; 8:45 am]

BILLING CODE 6560-50-P